DEPARTMENT OF COMMERCE

International Trade Administration

[A-469-807]

Stainless Steel Wire Rod From Spain: Rescission of Antidumping Duty Administrative Review

AGENCY: Import Administration, International Trade Administration, Department of Commerce.

ACTION: Notice of rescission of antidumping duty administrative review.

EFFECTIVE DATE: December 31, 2003.

FOR FURTHER INFORMATION CONTACT: John Conniff or Timothy Finn, AD/CVD Enforcement, Office 4, Group II, Import Administration, International Trade Administration, U.S. Department of Commerce, 14th Street and Constitution Avenue, NW., Washington, DC 20230, telephone (202) 482-1009 and (202) 482-0065, respectively.

SUPPLEMENTARY INFORMATION:

Background

On September 2, 2003, the Department of Commerce (the Department) published a notice of opportunity to request an administrative review of the antidumping duty order on stainless steel wire rod (SSWR) from Spain. See Antidumping or Countervailing Duty Order, Finding, or Suspended Investigation; Opportunity To Request Administrative Review, (68 FR 52181).

Pursuant to a request made by Carpenter Technology Corp. (the petitioner), on November 18, 2003, the Department initiated an administrative review of the antidumping duty order on SSWR from Spain for the period September 1, 2002, through August 31, 2003. See Initiation of Antidumping and Countervailing Duty Administrative Reviews, 68 FR 66799 (November 28, 2003).

On December 8, 2003, the petitioner withdrew its request for the administrative review of the order on SSWR from Spain.

Rescission of Review

Pursuant to 19 CFR 351.213(d)(1), the Department will rescind an administrative review if a party that requested the review withdraws its request within 90 days of the date on which the notice announcing the initiation of the requested review was published. The Department is rescinding the administrative review of the order on SSWR from Spain for the period September 1, 2002, through August 31, 2003, because the petitioner withdrew its request for this administrative review within the 90-day time limit and no other interested parties requested a review of the order on SSWR from Spain for the period September 1, 2002, through August 31, 2003.

This notice is in accordance with section 777(i)(1) of the Act and 19 CFR 351.213(d)(4).

Dated: December 24, 2003.
Holly A. Kuga,
Acting Deputy Assistant Secretary, Group II for Import Administration.

[FR Doc. 03-32230 Filed 12-30-03; 8:45 am]

BILLING CODE 3510-DS-P